DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 23, 2005.

Interested persons are invited to submit written comments regarding the subject matter of the investigations to the Director, Division of Trade Adjustment Assistance, at the address shown below, not later than June 23, 2005.

The petitions filed in this case are available for inspection at the Office of the Director, Division of Trade Adjustment Assistance, Employment and Training Administration, U.S. Department of Labor, Room C-5311, 200 Constitution Avenue, NW., Washington, DC 20210.

Signed at Washington, DC this 7th day of June 2005.
Timothy Sullivan,
Director, Division of Trade Adjustment Assistance.

Appendix
[Petitions instituted between 05/16/2005 and 05/20/2005]
TA-W | Subject firm (petitioners) | Location | Date of institution | Date of petition
57,174 | Microsemi Corp. (Comp) | Broomfield, CO | 05/16/2005 | 05/13/2005
57,175 | Stat Medical Devices (State) | North Miami, FL | 05/16/2005 | 05/12/2005
57,176 | Oneida Ltd. (State) | Lawrenceville, GA | 05/16/2005 | 05/13/2005
57,177 | Broyhill Furniture Industries, Inc. (Comp) | Lenoir, NC | 05/16/2005 | 04/29/2005
57,178 | C-Tech Industries Hotsy Corp. (Wkrs) | Humboldt, IA | 05/16/2005 | 05/13/2005
57,179 | Voith Paper (NPC) | Farmington, NH | 05/16/2005 | 05/13/2005
57,180 | Kimball Electronics (Comp) | Auburn, IN | 05/16/2005 | 05/13/2005
57,181 | Wilmington Products dba NW Co (Comp) | Ash, NC | 05/16/2005 | 05/11/2005
57,182 | AMT Doduco (Comp) | Reidsville, NC | 05/16/2005 | 05/06/2005
57,183 | Panasonic Motor Co. (Comp) | Berea, KY | 05/16/2005 | 05/09/2005
57,184 | Creative Nail Design (Comp) Nail | Vista, CA | 05/17/2005 | 05/16/2005
57,185 | Electronic Data Systems (NPW) | Green Bay, WI | 05/17/2005 | 05/16/2005
57,186 | Robinson Manufacturing Co. (Comp) | Oxford, ME | 05/17/2005 | 05/16/2005
57,187 | Benteler Mechanical Eng. (Wkrs) | Ft. Wayne, IN | 05/17/2005 | 05/16/2005
57,188 | Neat Feet Hosiery Inc. (Comp) | Stoneville, NC | 05/17/2005 | 05/12/2005
57,189 | Elliott Co. (USWA) | Jeannette, PA | 05/17/2005 | 04/23/2005
57,190 | National Wood Products (Comp) | Oxford, ME | 05/17/2005 | 05/16/2005
57,191A | Intradeco Apparel (NPS) | New York, NY | 05/17/2005 | 05/17/2005
57,191 | Intradeco Apparel (NPS) | Medley, FL | 05/17/2005 | 05/17/2005
57,192 | Laser Tool Co. (Wkrs) | Saegertown, PA | 05/17/2005 | 05/17/2005
57,193 | DAP Technologies Corp. (Wkrs) | Plattsburgh, NY | 05/17/2005 | 05/12/2005
57,194 | Hampden Corp. (Comp) | Chicago, IL | 05/17/2005 | 05/10/2005
57,195 | True Value Company (Comp) | Cary, IL | 05/17/2005 | 05/09/2005
57,196 | K and T Jewelry Accessories, Inc. (Wkrs) | Providence, RI | 05/17/2005 | 05/09/2005
57,197 | Penn Ventilation, Inc. (Wkrs) | Tabor City, NC | 05/17/2005 | 05/06/2005
57,198 | Neasi-Weber International (Wkrs) | Houston, TX | 05/17/2005 | 05/04/2005
57,199 | AMETEK U.S. Gauge Division (Comp) | Sellerville, PA | 05/17/2005 | 05/06/2005
57,200 | Gillette Company (The) (Comp) | Lexington, NC | 05/18/2005 | 05/16/2005
57,201 | CDI Business Solutions (Wkrs) | Corvallis, OR | 05/18/2005 | 05/17/2005
57,202 | Frederick Cooper Lamps (Comp) | Chicago, IL | 05/18/2005 | 05/17/2005
57,203 | Assembly Services and Packaging, Inc. (Comp) | Hudson, WI | 05/18/2005 | 05/17/2005
57,204 | Intermark Fabric Corp. (State) | Plainfield, CT | 05/18/2005 | 05/17/2005
57,205 | Royal Oak Enterprises (Wkrs) | White City, OR | 05/18/2005 | 05/17/2005
57,206 | Motor Components, LLC (Comp) | Elmira, NY | 05/18/2005 | 05/18/2005
57,207 | Storage Tek (State) | Brooklyn Park, MN | 05/18/2005 | 05/17/2005
57,208 | Wiremold/Legrand (Comp) | Philadelphia, PA | 05/19/2005 | 05/18/2005
57,209 | General Dynamics (Wkrs) | Imperial, CA | 05/19/2005 | 04/21/2005
57,210 | Printronix, Inc. (State) | Irvine, CA | 05/19/2005 | 05/18/2005
57,211 | Aerotek (State) | Portland, OR | 05/19/2005 | 05/18/2005
57,212 | TRW Automotive (NPC) | El Paso, TX | 05/19/2005 | 05/18/2005
57,213 | Sandisk Corporation (State) | Sunnyvale, CA | 05/19/2005 | 05/18/2005
57,214 | Omnova Solutions, Inc. (USWA) | Jeannette, PA | 05/19/2005 | 05/06/2005
57,215 | Plastic Dress-up Co. (Comp) | S. Eli Monet, CA | 05/19/2005 | 04/26/2005
57,216 | Gilmour Manufacturing (Comp) | Somerset, PA | 05/19/2005 | 05/18/2005
57,217 | Wade Manufacturing Co. (Comp) | Wadesboro, NC | 05/19/2005 | 05/18/2005
57,218 | Frank L. Wells Co. Wellsco Control Inc. (Wkrs) | Kenosha, WI | 05/19/2005 | 05/19/2005
57,219 | Riverside Paper Co. (PACE) | Appleton, WI | 05/19/2005 | 05/19/2005
57,220 | Geiger of Austria, Inc. (Comp) | Middlebury, VT | 05/19/2005 | 05/12/2005
57,221 | Texas Boot, Inc. (Comp) | Waynesboro, TN | 05/19/2005 | 05/03/2005
57,222 | Culp Finishing (Wkrs) | Burlington, NC | 05/19/2005 | 05/12/2005
57,223 | Ward Products, LLC (IBEW) | Amsterdam, NY | 05/19/2005 | 05/11/2005
57,224 | Meridan Automotive Systems (Wkrs) | Canandaigua, NY | 05/19/2005 | 05/10/2005
57,225 | Screen and Stitch, Inc. (Comp) | Park Falls, WI | 05/20/2005 | 05/16/2005
57,226 | Danly IEM (State) | Ionia, MI | 05/20/2005 | 05/02/2005
57,227 | Black Box Network Services (Wkrs) | Corvallis, OR | 05/20/2005 | 05/18/2005
57,228 | St. John Knits (State) | San Ysidro, CA | 05/20/2005 | 05/19/2005
57,229 | Renaissance Mart (Wkrs) | Bowling Green, KY | 05/20/2005 | 05/16/2005
57,230 | Lear Corporation (UAW) | Monroe, MI | 05/20/2005 | 05/19/2005
57,231 | AMI Doduco (Comp) | Reidsville, NC | 05/20/2005 | 05/06/2005

[FR Doc. E5-3040 Filed 6-10-05; 8:45 am]

BILLING CODE 4510-30-P